DEPARTMENT OF HEALTH AND HUMAN SERVICES

Administration for Children and Families

Child Support Enforcement Program; Report to Congress

AGENCY: Administration for Children and Families, Department of Health and Human Services (HHS).

ACTION: Notice of request for information.

SUMMARY: The Department of Health and Human Services, Administration for Children and Families, Office of Child Support Enforcement requests public comments to inform its upcoming Report to Congress. The Report to Congress (“Report”) is required to be submitted no later than June 30, 2015 under Title III, Section 305 of H.R. 4980 (Pub. L. 113-183), Preventing Sex Trafficking and Strengthening Families Act of 2014. The legislation was signed into law on September 29, 2014. This Request for Information offers the opportunity for interested individuals and organizations to provide input on specific Report requirements or other information that would be valuable to the Report development.

DATES: Comments must be received by 11:59 p.m. on December 22, 2014, to be considered.

ADDRESSES: Respondents are encouraged to submit their comments through the following methods; although email is the preferred method of submission.

Email: Email comments concerning this notice to OCSEreport@acf.hhs.gov. Email submissions will receive an electronic confirmation acknowledging receipt of your response, but will not receive individualized feedback on any suggestions.

Postal Mail: ACF/Office of Child Support Enforcement, Attn: OCSE Report—Sheila Drake, 370 L'Enfant Promenade SW., 4th Floor East, Washington, DC 20447. Submissions by postal mail must be received by the deadline, and should allow sufficient time for security processing.

SUPPLEMENTARY INFORMATION: This Request for Information offers the opportunity for interested individuals and organizations to provide input on specific Report requirements or other information that would be valuable to the Report development.

Background

H.R. 4980 (Pub. L. 113-183), Preventing Sex Trafficking and Strengthening Families Act (Act) of 2014 was passed by both the House and Senate and then signed by the President on September 29, 2014. Under the Act's Title III—Improving International Child Support Recovery, Section 305—Report to Congress, the Secretary, in conjunction with the strategic plan, is directed to review and provide recommendations for cost-effective improvements to the child support enforcement program funded under title IV-D of the Social Security Act and ensure that the plan addresses the effectiveness and performance of the program, analyzes program practices, identifies possible new collection tools and approaches, and identifies strategies for holding parents accountable for supporting their children and for building the capacity of parents to pay child support, with specific attention given to matters including front-end services, ongoing case management, collections, tribal-state partnerships, interstate and intergovernmental interactions, program performance, data analytics, and information technology. This shall be done in consultation with stakeholders including state, tribal, and county child support directors; judges who preside over family courts and organizations that represent the judges; custodial and noncustodial parents and the organizations that represent them; and fiduciaries such as financial institutions and employers. The Secretary shall submit a report to Congress not later than June 30, 2015, which will include:

• An analysis of the effectiveness of state child support programs;

• Recommendations for methods to enhance the effectiveness of child support programs and collection practices;

• A review of state best practices in regards to establishing and operating state and multistate lien registries;

• A compilation of state recovery and distribution policies;

• Options, with analysis, for methods to engage noncustodial parents in the lives of their children through consideration of parental time and visitation with children;

• An analysis of the role of alternative dispute resolution in making child support determinations;

• Identification of best practices for determining which services and support programs available to custodial and noncustodial parents are non-duplicative, evidence-based, produce quality outcomes, and connect parents to those services and support programs. Identification of best practices for providing employment support, job training, and job placement for custodial and noncustodial parents. Identification of best practices for establishing services and supports and child support tracking with options for preventing and resolving uncollectible arrears;

• Options, with analysis, for methods for states to use to collect child support payments from individuals who owe excessive arrearages;

• A review of state practices used to determine which individuals are excluded from the requirement to be reported to the Passport Denial program, including the extent to which individuals are able to successfully contest or appeal decisions; and

• Options, with analysis, for such legislative and administrative actions as are determined to be appropriate for improvement in child support enforcement.

Additional Instructions Regarding Comments To Be Submitted

In your comments, please reference the specific paragraph of the legislation or issue area. Please do not include in your comments information of a confidential nature, such as sensitive personal information or proprietary information. Information obtained as a result of this notice may be used by the Federal Government for Report development. Please be aware that your comments may be posted online or cited in the Report.

Authority: Sec. 305, Pub. L. 113-183, 128 Stat. 1919.

Robert Sargis,
Reports Clearance Officer.

[FR Doc. 2014-25024 Filed 10-22-14; 8:45 am]

BILLING CODE 4184-01-P